DEPARTMENT OF COMMERCE

National Oceanic and Atmospheric Administration

[RTID 0648-XC645]

North Pacific Fishery Management Council; Public Meeting

AGENCY: National Marine Fisheries Service (NMFS), National Oceanic and Atmospheric Administration (NOAA), Commerce.

ACTION: Notice of hybrid meeting.

SUMMARY: The North Pacific Fishery Management Council (NPFMC) Trawl Electronic Monitoring (EM) Committee will meet January 20, 2023.

DATES: The meeting will be held on Friday, January 20, 2023, from 9 a.m. to 4 p.m., Alaska Time.

ADDRESSES: The meeting will be a hybrid meeting. Attend in-person at the North Pacific Research Board office, 1007 West Third Ave., Suite 100, Anchorage, AK 99501 or join online through the link at https://meetings.npfmc.org/Meeting/Details/2970.

Council address: North Pacific Fishery Management Council, 1007 W 3rd Ave., Anchorage, AK 99501-2252; telephone: (907) 271-2809. Instructions for attending the meeting are given under SUPPLEMENTARY INFORMATION, below.

FOR FURTHER INFORMATION CONTACT: Anna Henry, Council staff; phone; (907) 271-2809 and email: Anna.Henry@noaa.gov. For technical support please contact administrative Council staff, email: npfmc.admin@noaa.gov.

SUPPLEMENTARY INFORMATION:

Agenda

Friday, January 20, 2023

The agenda will include an update on 2022 NFWF funding decisions, an update on the trawl EM program, the status of current and potential future EM projects and the regional ET implementation plan priorities and committee discussion on the future role and appropriate makeup of the Trawl EM Committee. The Agenda is subject to change, and the latest version will be posted at https://meetings.npfmc.org/Meeting/Details/2970 prior to the meeting, along with meeting materials.

Connection Information

You can attend the meeting online using a computer, tablet, or smartphone; or by phone only. Connection information will be posted online at: https://meetings.npfmc.org/Meeting/Details/2970.

Public Comment

Public comment letters will be accepted and should be submitted electronically to https://meetings.npfmc.org/Meeting/Details/2970.

Authority: 16 U.S.C. 1801 et seq.

Dated: January 3, 2022.
Ngagne Jafnar Gueye,
Acting Director, Office of Sustainable Fisheries, National Marine Fisheries Service.

[FR Doc. 2023-00084 Filed 1-5-23; 8:45 am]

BILLING CODE 3510-22-P